NUCLEAR REGULATORY COMMISSION

[Docket No. 99902080; NRC-2025-1171]

Atomic Alchemy Operators LLC; VIPR Idaho LLC; Construction Permit Application

AGENCY: Nuclear Regulatory Commission.

ACTION: Notice; receipt.

SUMMARY: The U.S. Nuclear Regulatory Commission (NRC) is providing public notice of receipt and availability for the first part of a construction permit application for a four-unit reactor facility from Atomic Alchemy Inc. on behalf of Atomic Alchemy Operators LLC and VIPR Idaho LLC. The first part of the construction permit application was received on September 12, 2025.

DATES: November 28, 2025.

ADDRESSES: Please refer to Docket ID NRC-2025-1171 when contacting the NRC about the availability of information for this action. You may obtain publicly available information related to this action by any of the following methods:

• Federal Rulemaking website: Go to https://www.regulations.gov and search for Docket ID NRC-2025-1171. Address questions about Docket IDs in Regulations.gov to Bridget Curran; telephone: 301-415-1003; email: Bridget.Curran@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Linh Tran, Office of Nuclear Reactor Regulation, U.S. Nuclear Regulatory Commission, Washington, DC 20555-0001; telephone: 301-415-4103; email: Linh.Tran@nrc.gov.

I. Discussion

On September 12, 2025, Atomic Alchemy Inc., on behalf of Atomic Alchemy Operators LLC and VIPR Idaho LLC, transmitted to the NRC the first part of an application, pursuant to section 103 of the Atomic Energy Act of 1954, as amended, and part 50 of title 10 of the Code of Federal Regulations (10 CFR), “Domestic Licensing of Production and Utilization Facilities,” for a construction permit for a four-unit, non-power, light-water-cooled, pool-type Versatile Isotope Production Reactor (VIPR) facility to be located at the Idaho National Laboratory desert site, in Bingham County, Idaho. Each VIPR unit utilizes low-enriched fuel and contains irradiation positions for radiating targets. The VIPR units and related processing hot cells and target fabrication are referred to as the Meitner-1 facility.

As part of the construction permit application, Atomic Alchemy Inc., on behalf of Atomic Alchemy Operators LLC and VIPR Idaho LLC, requested an exemption from certain requirements of 10 CFR 2.101(a)(5) that would allow the submission of the second part of the application, the environmental report, within six months of the first part.

The first part of the construction permit application and the exemption request are available in ADAMS under Accession Nos. ML25255A199 (package) and ML25255A203, respectively.

The NRC staff is currently reviewing the exemption request and undertaking its acceptance review of the first part of the construction permit application. If the exemption request is granted and the application is accepted for docketing, a subsequent Federal Register notice will be issued that addresses the acceptability of the first part of the application for docketing and provisions for participation of the public in the permitting process.

A Federal Register notice of receipt and availability for the second part of the construction permit application will be issued after the NRC receives the second part of the application. If the second part of the application is accepted for docketing, a subsequent Federal Register notice will be issued that addresses the acceptability of the second part of the application for docketing and provisions for participation of the public in the permitting process.

Dated: November 24, 2025.
For the Nuclear Regulatory Commission.
Jeffrey Rady,
Chief, Non-Power Production and Utilization Facilities Licensing Branch, Division of Advanced Reactors and Non-Power Production and Utilization Facilities, Office of Nuclear Reactor Regulation.

[FR Doc. 2025-21401 Filed 11-26-25; 8:45 am]

BILLING CODE 7590-01-P